DEPARTMENT OF COMMERCE

National Oceanic and Atmospheric Administration

[I.D. 111202A]

Taking and Importing Marine Mammals; Taking Marine Mammals Incidental to Construction and Operation of Offshore Oil and Gas Facilities in the Beaufort Sea

AGENCY: National Marine Fisheries Service (NMFS), National Oceanic and Atmospheric Administration (NOAA), Commerce.

ACTION: Notice of issuance of a letter of authorization.

SUMMARY: In accordance with the Marine Mammal Protection Act (MMPA), as amended, and implementing regulations, notification is hereby given that a letter of authorization (LOA) to take a small number of marine mammals incidental to the production of offshore oil and gas at the Northstar development in the Beaufort Sea off Alaska has been issued to BP Exploration (Alaska), Anchorage, AK (BPXA).

DATES: This LOA is effective from December 9, 2002, until December 9, 2003.

ADDRESSES: A copy of BPXA's letter and/or the LOA may be obtained by writing to the Office of Protected Resources, NMFS, 1315 East-West Highway, Silver Spring, MD 20910, or by telephoning one of the contacts listed here.

FOR FURTHER INFORMATION CONTACT: Kenneth R. Hollingshead (301) 713-2055, ext. 128, or Bradley Smith (907) 271-5006.

SUPPLEMENTARY INFORMATION: Section 101(a)(5)(A) of the MMPA (16 U.S.C. 1361 et seq.) directs NMFS to allow, on request, the incidental, but not intentional, taking of small numbers of marine mammals by U.S. citizens who engage in a specified activity (other than commercial fishing) within a specified geographical region, if certain findings are made by NMFS and regulations are issued. Under the MMPA, the term “taking” means to harass, hunt, capture, or kill or to attempt to harass, hunt, capture or kill marine mammals.Permission may be granted for periods up to 5 years if NMFS finds, after notification and opportunity for public comment, that the taking will have a negligible impact on the species or stock(s) of marine mammals, will not have an unmitigable adverse impact on the availability of the species or stock(s) of marine mammals for subsistence uses, and if regulations are prescribed setting forth the permissible methods of taking and the requirements pertaining to the monitoring and reporting of such taking. Regulations governing the taking of marine mammals incidental to construction and operation of the offshore oil and gas facility at Northstar in the Beaufort Sea were published and made effective on May 25, 2000 (65 FR 34014), and remain in effect until May 25, 2005.

Summary of Request

On September 25, 2002, NMFS received a request from BPXA for a renewal of an LOA issued on September 28, 2000 (65 FR 58265) and reissued on December 14, 2001 (66 FR 65923, December 21, 2001), for the taking of marine mammals incidental to oil production operations at Northstar, under section 101(a)(5)(A) of the MMPA. This request contained information in compliance with 50 CFR 216.209, which updated information provided in BPXA's original application for takings incidental to construction and operations at Northstar. The current LOA for the taking of marine mammals incidental to oil production at the Northstar facility will expire on November 30, 2002.

Impacts on marine mammals may occur through noise from barge, helicopter traffic, drilling, and other noise sources on the platform. Impacts may also result if there is an oil spill resulting from production. While noise impacts on marine mammals will be low (this structure will make less noise than standard jack-up rigs, the concrete island drilling structure, or seismic activity), bowhead whales will likely hear the noise at distances up to 10 km (6.2 mi) from the island. In addition, there may be some harassment, injury, or mortality of ringed seals during ice road construction. Noise impacts may result in the harassment of approximately 215 bowheads, 5 gray whales and 15 beluga whales. Year-round operations at Northstar may result in the harassment of up to approximately 95 ringed seals and 1 bearded seal being harassed and the incidental mortality of up to 5 ringed seal pups.

As oil spills are highly unlikely, impacts on marine mammals from an oil spill are also unlikely to take place. However, in order to mitigate the potential for impacts on bowheads and the subsistence use of bowheads, BPXA has confirmed to NMFS that it will not drill into oil-bearing strata during periods of open water or broken ice, essentially the time period between June 13 and ending with the presence of 18 inches of continuous ice cover for one-half mile in all directions. This mitigation is due to the present lack of adequate ability to clean up after an oil spill has occurred. Additional mitigation has been proposed by BPXA to the North Slope Borough native community to ensure that, in the event that an oil spill did occur, it would not have an unmitigable adverse impact on the subsistence use of the bowhead whale.

National Environmental Policy Act (NEPA)

In accordance with section 6.01 of the National Oceanic and Atmospheric Administration (NOAA) Administrative Order 216-6 (Environmental Review Procedures for Implementing the National Environmental Policy Act , May 20, 1999), NMFS has analyzed both the context and intensity of this action and determined, based on a programmatic NEPA assessment conducted on the impact of NMFS' rulemaking for the issuance of IHAs (61 FR 15884; April 10, 1996); the Corps of Engineers' 1998 Final Environmental Impact Statement for Northstar construction and oil production; and the contents, results, and analyses of BP's marine mammal monitoring program from 1999 through October, 2002, will not individually or cumulatively result in a significant impact on the quality of the human environment as defined in 40 CFR 1508.27. Therefore, based on this analysis, the action of issuing an LOA governing the incidental taking of marine mammals, by harassment for this activity meets the definition of a “Categorical Exclusion” as defined under NOAA Administrative Order 216-6 and is exempted from further environmental review.

Endangered Species Act

On March 4, 1999, NMFS concluded consultation, under the Endangered Species Act, with the U.S. Army Corps of Engineers on permitting the construction and operation at the Northstar site. The finding of that consultation was that construction and operation at Northstar is not likely to jeopardize the continued existence of the bowhead whale stock. Because issuance of a small take authorization to BPXA under section 101(a)(5)(A) of the MMPA is a Federal action, NMFS has completed section 7 consultation on this action. The finding of this consultation was that the issuance of the subject small take authorization was unlikely to adversely affect the bowhead whale.

Determinations

In NMFS' final 5-year rule notice published on May 25, 2000 (63 FR 32207), and in the notice published on December 21, 2001 (66 FR 65923) regarding the LOA for oil production at Northstar and in internal supporting documentation, NMFS has determined, that the taking of marine mammals incidental to oil production operations at the Northstar offshore oil and gas facility in state and federal waters, will not result in more than the incidental taking of small numbers of bowhead whales, beluga whales, ringed seals, and, possibly California gray whales, bearded seals and spotted seals. NMFS noted in addition, that the taking will have only a negligible impact on these marine mammal stocks, would not have an unmitigable adverse impact on the availability of these species or stocks for taking for subsistence uses, and would result in the least practicable impact on these stocks. As the results from the monitoring program carried out since 1999 have not indicated that the determinations made in 2000 and 2001 were in error, nor that estimated levels of incidental harassment have been exceeded, and as the activity that was reviewed in 2001 (oil production activities) has not changed, these determinations remain valid.

Dated: December 9, 2002.
Laurie K. Allen,
Acting Deputy Director, Office of Protected Resources, National Marine Fisheries Service.

[FR Doc. 02-31982 Filed 12-18-02; 8:45 am]

BILLING CODE 3510-22-S